DEPARTMENT OF LABOR

Employee Benefits Security Administration

Agency Information Collection Activities; Announcement of OMB Approval

AGENCY: Employee Benefits Security Administration, Labor.

ACTION: Notice of approval.

SUMMARY: The Employee Benefits Security Administration (EBSA) is announcing that a revision to the information collection included in Prohibited Transaction Exemption 81-6 (PTE 81-6), Loans of Securities by Employee Benefit Plans to Certain Broker-Dealers and Banks has been approved by the Office of Management and Budget (OMB) under the Paperwork Reduction Act of 1995 (PRA) (44 U.S.C. 3501-3520). This notice announces the OMB approval number and expiration date.

FOR FURTHER INFORMATION CONTACT: Gerald B. Lindrew, U.S. Department of Labor, Employee Benefits Security Administration, 200 Constitution Avenue, NW., Room N-5647, Washington, DC 20210. Telephone: (202) 693-8410. This telephone number is not toll-free.

SUPPLEMENTARY INFORMATION: In the Federal Register of October 23, 2003 (68 FR 60715), because of changes to Prohibited Transaction Exemption 81-6 (PTE 81-6), Loans of Securities by Employee Benefit Plans to Certain Broker-Dealers and Banks, the Agency published its intent to request approval by OMB of the Information Collection Request (ICR) included in the revised exemption. The revision was the result of amending PTE 81-6, currently approved under OMB Number 1210-0065, and combining it with a restated Prohibited Transaction Exemption 82-63, currently approved under OMB Number 1210-0062. The Department combined the two exemptions to facilitate their use and understanding by the public. In accordance with the PRA, OMB has approved the information collections in both exemptions under OMB control number 1210-0065; OMB control number 1210-0062 will no longer be used. The approval expires on December 31, 2006. Under 5 CFR 1320.5(b), an Agency may not conduct or sponsor, and a person is not required to respond to, a collection of information unless the collection displays a valid control number.

Dated: March 31, 2004.
Gerald B. Lindrew,
Deputy Director, Office of Policy and Research, Employee Benefits Security Administration.

[FR Doc. 04-8551 Filed 4-14-04; 8:45 am]

BILLING CODE 4510-29-P